DEPARTMENT OF AGRICULTURE

Foreign Agricultural Service

Agricultural Policy Advisory Committee for Trade and the Agricultural Technical Advisory Committees for Trade; Reestablishment and Nominations

AGENCY: Foreign Agricultural Service, USDA.

ACTION: Notice.

SUMMARY: Pursuant to the Federal Advisory Committee Act, notice is hereby given that the Secretary of Agriculture (Secretary), in coordination with the United States Trade Representative (USTR), intends to reestablish the Agricultural policy advisory Committee (APAC) for Trade and the six existing Agricultural Technical Advisory Committees (ATAC) for Trade. The Foreign Agricultural Service (FAS) is requesting nominations for persons to serve on these seven committees for a term of four years.

DATES: Written nominations must be received by FAS before the close of business on April 13, 2007.

ADDRESSES: Nominations must be hand-delivered (including FedEx, DHL, UPS, etc.) to the Office of Negotiations and Agreements, Foreign Agricultural Service, USDA, Room 5603-S, 1400 Independence Avenue, SW., Mail Stop 1048, Washington, DC 20250-1001.

FOR FURTHER INFORMATION CONTACT: Inquiries or comments regarding the reestablishment of these committees also may be sent by electronic mail to Michelle.Moore@fas.usda.gov, or by fax to (202) 720-0340. The Office of Negotiations and Agreements may be reached by telephone at (202) 720-6219, with inquiries directed to Michelle Moore.

SUPPLEMENTARY INFORMATION:

Introduction

The APAC and the ATACs are authorized by sections 135(c)(1) and (2) of the Trade Act of 1974, as amended (Pub. L. No. 93-618, 19 U.S.C. 2155 (2000)). The purpose of these committees is to advise the Secretary and the U.S. Trade Representative concerning agricultural trade policy. The committees are intended to ensure that representative elements of the private sector have an opportunity to express their views to the U.S. government.

Rechartering of Existing Committees

Pursuant to the Federal Advisory Committee Act (5 U.S.C. App. (2000)), FAS gives notice that the Secretary and the USTR intend to reestablish the APAC and the following six ATACs:

• Animals and Animal Products;

• Fruits and Vegetables;

• Grains, Feed, and Oilseeds;

• Processed Foods;

• Sweeteners and Sweetener Products; and,

• Tobacco, Cotton, Peanuts, and Planting Seeds.

In 1974, Congress established a private sector advisory committee system to ensure that U.S. trade policy and negotiation objectives adequately reflect U.S. commercial and economic interests. The private sector advisory committee system currently consists of three tiers:

• The President's Advisory Committee on Trade and Policy Negotiations;

• Five general policy advisory committees, including the APAC; and,

• Twenty-two technical advisory committees, including the ATACs.

The establishment and renewal of such committees is in the public interest in connection with the duties of the USDA imposed by the Trade Act of 1974, as amended.

Committee Membership Information

• All committee members are appointed by the Secretary and the USTR and serve at the discretion of the Secretary and the USTR.

• Committee size will be limited up to approximately 35 members each.

• All committee appointments will expire in four years, but the Secretary and the USTR may renew an appointment for one or more additional terms.

• All committee members must be U.S. citizens and must not be required to register under the Foreign Agents Registration Act.

• To attend certain meetings, committee members must have a current security clearance or have submitted an application for a security clearance.

• Committee members serve without compensation; they are not reimbursed for their travel expenses.

• No person may serve on more than one USDA advisory committee at the same time.

General Committee Information

• Each committee has a chairperson, who is elected from the membership of that committee.

• Committees meet approximately four times per year, and all committee meetings are held in Washington, DC.

• Committee meetings may be closed to the public, if the USTR determines that a committee will be discussing issues that justify closing a meeting or portion of a meeting, in accordance with 5 U.S.C. 552(b).

• Throughout the year, members are requested to review sensitive trade policy information via a secure website and provide comments regarding trade negotiations.

• In addition to their other advisory responsibilities, at the conclusion of negotiations of any trade agreement, all committees are required to provide a report on each agreement to the President, Congress, and the USTR.

Agricultural Policy Advisory Committee for Trade

The APAC is composed of a broad spectrum of agricultural interests. The APAC provides advice concerning the following:

• Negotiating objectives and bargaining positions before the United States enters into a trade agreement;

• The operation of various U.S. trade agreements; and

• Other matters arising from the administration of U.S. trade policy.

Agricultural Technical Advisory Committees for Trade

The ATACs provide advice and information regarding trade issues that affect both domestic and foreign production in the commodities of the respective sector, drawing upon the technical competence and experience of the members. There will be six ATACs, one for each of the following sectors:

• Animals and Animal Products;

• Fruits and Vegetables;

• Grains, Feed, and Oilseeds;

• Processed Foods;

• Sweeteners and Sweetener Products; and,

• Tobacco, Cotton, Peanuts, and Planning Seeds.

Nominations and Appointment of Members

Nominations for APAC and ATAC membership are open to all individuals representing U.S. entities with an interest in agricultural trade without regard to race, color, religion, sex, national origin, age, mental or physical handicap, marital status, or sexual orientation. To ensure that the recommendations of the committee take into account the needs of the diverse groups served by the USDA, membership shall include, to the extent practicable, individuals with demonstrated ability to represent minorities, women, and persons with disabilities.

Members must have expertise and knowledge of agricultural trade as it relates to policy and commodity specific products. No person, company, producer, farm organization, trade association, or other entity has a right to membership on a committee. In making appointments, every effort will be made to maintain balanced representation on the committees: from producers, farm and commodity organizations, processors, traders, and consumers. Geographical balance on each committee will also be sought.

Nominating a person to serve on any of the committees requires submission of a current resume for the nominee and the following form:

• AD-755 (Advisory Committee Membership Background Information), available on the Internet at http://www.fas.usda.gov/admin/ad755.pdf.

In addition, FAS encourages the submission of the optional form AD-1086 (Applicant for Advisory Committee Supplemental Sheet), available on the Internet at http://www.fas.usda.gov/admin/ad1086.pdf. Forms may also be requested by sending an email to Michelle.Moore@fas.usda.gov, or by phone at 202-720-6219.

Foreign Firms: Persons who are employed by firms that are 50 percent plus one share foreign-owned must state the extent to which the organization or interest to be represented by the nominee is owned by non-U.S. citizens, organizations, or interests. If the nominee is to represent an entity or corporation with 10 percent or greater non-U.S. ownership, the nominee must demonstrate at the time of nomination that this ownership interest does not constitute control and will not adversely affect his or her ability to serve as an advisor on the U.S. agriculture advisory committee for trade.

Issued at Washington, DC, this 7th day of March, 2007.
W. Kirk Miller,
Administrator, Foreign Agricultural Service.

[FR Doc. 07-1339 Filed 3-19-07; 8:45 am]

BILLING CODE 3410-10-M